DEPARTMENT OF TRANSPORTATION

Federal Motor Carrier Safety Administration

Sunshine Act Meetings; Unified Carrier Registration Plan Board of Directors

AGENCY: Federal Motor Carrier Safety Administration.

Time and Date: January 15, 2007, 1 p.m. to 5 p.m. and January 16, 2007, 8 a.m. to 12 p.m.

Place: Four Points by Sheraton Phoenix Metro Center, 10220 N. Metro Parkway East, Phoenix, AZ 85051.

Status: Open to public.

Matters To Be Considered: An overview of the Unified Carrier Registration Plan and Agreement requirements set forth under section 4305 of the “Safe, Accountable, Flexible, Efficient Transportation Equity Act: A Legacy for Users,” and the administrative functioning of the Board. In addition, the Board will continue its work in developing and implementing the Unified Carrier Registration Plan and Agreement. The Board's Subcommittees, including the Industry Advisory Subcommittee, will also meet. Further, any action taken by the Board at the last Board meeting held on December 4 and 5, 2006, in Chicago, IL will be considered for ratification.

FOR FURTHER INFORMATION CONTACT: Mr. William Quade, (202)366-2172, Director, Office of Safety Programs, Federal Motor Carrier Safety Administration, or Mr. Bryan Price, (412) 395-4816, FMCSA Pennsylvania Division Office.

Dated: January 9, 2007.
John H. Hill,
Administrator.

[FR Doc. 07-116 Filed 1-10-07; 10:42 am]

BILLING CODE 4910-EX-P